DEPARTMENT OF THE INTERIOR

Fish and Wildlife Service

[FWS-R4-ES-2017-N085; FXES11140400000-178-FF04EF2000]

Endangered and Threatened Wildlife and Plants; Receipt of Applications for Incidental Take Permits; Availability of Low-Effect Proposed Habitat Conservation Plans and Associated Documents; Polk County, FL

AGENCY: Fish and Wildlife Service, Interior.

ACTION: Notice of availability; request for comments and information.

SUMMARY: We, the Fish and Wildlife Service (Service), announce the availability for comment of three incidental take permit (ITP) applications and three proposed habitat conservation plans (HCPs). Three applicants request ITPs under the Endangered Species Act of 1973, as amended (Act). The applicants—Hanover Capital Partners, LLC; Palmetto Babson Park—Scenic Hwy. 17, LLC; and 17-92, LLC—anticipate taking feeding, breeding, and sheltering habitat used by the sand skink and blue-tailed mole skink incidental to land preparation and construction in Polk County, Florida. The applicants' proposed HCPs describe proposed mitigation measures to address the effects of development on the species.

DATES: We must receive your written comments on the incidental take permit applications and habitat conservation plans on or before October 26, 2017.

ADDRESSES:

Obtaining Documents: You may obtain a copy of the incidental take permit (ITP) applications and habitat conservation plans (HCPs) by writing to Alfredo Begazo, South Florida Ecological Services Office; Attn: Permit numbers TE32251C-0, TE32252C-0, and TE32249C-0; U.S. Fish and Wildlife Service; 1339 20th Street; Vero Beach, FL 32960-3559. In addition, we will make the ITP applications and HCPs available for public inspection by appointment during normal business hours at the South Florida Ecological Services Office address.

Submitting Comments: See SUPPLEMENTARY INFORMATION for information on how to submit your comments on the ITP applications and HCPs.

FOR FURTHER INFORMATION CONTACT: Mr. Alfredo Begazo, South Florida Ecological Services Office (see ADDRESSES); telephone: 772-469-4234.

SUPPLEMENTARY INFORMATION: We, the Fish and Wildlife Service (Service), announce the availability of three incidental take permit (ITP) applications and proposed habitat conservation plans (HCPs), under section 10(a)(1)(B) of the Endangered Species Act of 1973, as amended (16 U.S.C. 1531 et seq.; Act). The applicants anticipate taking feeding, breeding, and sheltering habitat used by the sand skink (Neoseps reynoldsi) and blue-tailed mole skink (Eumeces egregius) (skinks) incidental to land preparation and construction in Polk County, Florida. The applicants' HCPs describe proposed mitigation measures to address the effects of development on the two covered skink species. The Service listed the skinks as threatened in 1987 (November 6, 1987; 52 FR 42658, effective December 7, 1987.

Applicants' Proposed Projects

We received applications from the applicants for incidental take permits, along with proposed HCPs. Each applicant is requesting an ITP under the Act. If we approve these applications, the following take could occur:

• Hanover Capital Partners, LLC (ITP TE32251C-0) anticipates taking 3.65 ac of skink breeding, feeding, and sheltering habitat, incidental to land preparation and construction in Section 14, Township 26 South, Range 27 East;

• Palmetto Babson Park—Scenic Hwy. 17, LLC (ITP TE32252C-0) anticipates taking 1.27 ac of skink breeding, feeding, and sheltering habitat, incidental to land preparation and construction in Section 33, Township 30 South, Range 28 East; and

• 17-92, LLC (ITP TE32249C-0) anticipates taking 2.64 ac of skink breeding, feeding, and sheltering habitat, incidental to land preparation and construction in in Section 12, Township 26 South, Range 27 East and Section 7, Township 26 South, Range 28 East.

All affected properties are in Polk County, Florida.

The applicants currently have neither timeframes for development nor specific site plans; however, development of these parcels would likely include construction of one or more structures and parking areas, and installation of associated utilities.

The applicants propose to mitigate for impacts to skinks by purchasing credits from a Service-approved conservation bank as follows:

• Hanover Capital Partners, LLC proposes to purchase the equivalent of 7 ac of credits;

• Palmetto Babson Park—Scenic Hwy. 17, LLC proposes to purchase the equivalent of 2.54 ac of credits; and

• 17-92, LLC proposes to purchase the equivalent of 5.28 ac of credits.

Our Preliminary Determination

The Service has made a preliminary determination that the applicants' projects, including the mitigation measures, will individually and cumulatively have a minor or negligible effect on the species covered in the HCPs. Therefore, we have determined that the incidental take permits for these projects are “low effect” and qualify for categorical exclusions under the National Environmental Policy Act (NEPA), as provided by 43 CFR 46.205 and 43 CFR 46.210. We base our preliminary determination that issuance of the ITPs qualifies as low-effect on the following three criteria: (1) Implementation of the projects would result in minor or negligible effects on federally listed, proposed, and candidate species and their habitats; (2) Implementation of the projects would result in minor or negligible effects on other environmental values or resources; and (3) Impacts of the projects, considered together with the impacts of other past, present, and reasonably foreseeable similarly situated projects, would not result, over time, in cumulative effects to environmental values or resources that would be considered significant. This preliminary determination may be revised based on our review of public comments that we receive in response to this notice.

Next Steps

The Service will evaluate the HCPs and comments submitted thereon to determine whether the applications meet the requirements of section 10(a) of the Act. The Service will also evaluate whether issuance of the section 10(a)(1)(B) ITPs complies with section 7 of the Act by conducting an intra-Service section 7 consultation for each project. The results of these consultations, in combination with the above findings, will be used in the final analysis to determine whether or not to issue the ITPs. If it is determined that the requirements of the Act are met, the ITPs will be issued.

Submitting Comments

If you wish to comment on the ITP applications or HCPs, you may submit comments by any one of the following methods:

Email: alfredo_begazo@fws.gov. Use “Attn: Permit numbers TE32251C-0, TE32252C-0, and TE32249C-0” as your message subject line.

Fax: Alfredo Begazo, 772-562-4288, “Attn.: Permit numbers TE32251C-0, TE32252C-0, and TE32249C-0.”

U.S. mail: See ADDRESSES.

In-person drop-off: You may drop off comments or request information during regular business hours at the address in ADDRESSES.

Public Availability of Comments

Before including your address, phone number, email address, or other personal identifying information in your comments, you should be aware that your entire comment—including your personal identifying information—may be made publicly available at any time. While you can request in your comments that your personal identifying information be withheld from public review, we cannot guarantee that we will be able to do so.

Authority

We provide this notice under section 10 of the Endangered Species Act (16 U.S.C. 1531 et seq.) and NEPA regulations (40 CFR 1506.6).

Dated: September 6, 2017.
Roxanna Hinzman,
Field Supervisor, South Florida Ecological Services Office.

[FR Doc. 2017-20568 Filed 9-25-17; 8:45 am]

BILLING CODE 4333-15-P